SURFACE TRANSPORTATION BOARD

[Docket No. AB 1305 (Sub No. 1)]

Great Redwood Trail Agency—Adverse Abandonment—Mendocino Railway in Mendocino County, Cal.

On April 12, 2024, Great Redwood Trail Agency (GRTA), a public agency created by the State of California, filed an application under 49 U.S.C. 10903 requesting that the Surface Transportation Board (Board) authorize the third-party, or “adverse,” abandonment of an approximately 40-mile rail line owned by Mendocino Railway (MR) that extends between milepost 0 at Fort Bragg and milepost 40 at Willits, in Mendocino County, Cal. (the Line). The Line traverses U.S. Postal Service Zip Codes 95437 and 95490.

According to GRTA, the Line has not been used for Board-regulated rail transportation for over 20 years. GRTA states no rail shipments have originated or terminated on the Line since it was purchased out of bankruptcy by MR in 2004, see Mendocino Ry.—Acquis. Exemption—Assets of the Cal. W. R.R., FD 34465 (STB served Apr. 9, 2004), and that the last business to use the Line ceased operations in 2002. GRTA also states MR has no reasonable prospects for future business along the Line as there is no need for rail service in this area, and that the Line is no longer connected to the interstate freight rail system.

GRTA explains that it is seeking adverse abandonment to support the transformation of a connecting 307-mile rail line (the GRTA Line) into a trail. According to the application, under California law, GRTA must seek abandonment of the GRTA Line and seek railbanking thereon. Without the abandonment of the Line, GRTA states it would be prohibited from seeking abandonment of a portion of the GRTA Line because such action would leave the Line stranded from the interstate rail network.

In a decision served in this proceeding on August 21, 2023, GRTA was granted exemptions from several statutory provisions as well as waivers of certain Board regulations that the Board concluded were inapplicable and unneeded in connection with GRTA's anticipated application.

According to GRTA, the Line does not contain any federally granted rights-of way. GRTA states that any documentation in its possession will be made available promptly to those requesting it. GRTA's entire case-in-chief for adverse abandonment was filed with the application.

The interests of railroad employees will be protected by the conditions set forth in Oregon Short Line Railroad—Abandonment Portion Goshen Branch Between Firth & Ammon, in Bingham & Bonneville Counties, Idaho, 360 I.C.C. 91 (1979).

Any interested person may file comments concerning the proposed adverse abandonment or protests (including protestant's entire opposition case) by May 28, 2024. Persons who may oppose the proposed adverse abandonment but who do not wish to participate fully in the process by submitting verified statements of witnesses containing detailed evidence should file comments. Persons opposing the proposed adverse abandonment who wish to participate actively and fully in the process should file a protest, observing the filing, service, and content requirements of 49 CFR 1152.25. GRTA's reply is due by June 11, 2024.

Any request for an interim trail use/railbanking condition under 16 U.S.C. 1247(d) and 49 CFR 1152.29 must be filed by May 28, 2024,¹ and should address whether the issuance of a certificate of interim trail use or abandonment in this case would be consistent with the grant of an adverse abandonment application.

¹ Filing fees for interim trail use/railbanking requests can be found at 49 CFR 1002.2(f)(27).

All pleadings, referring to Docket No. AB 1305 (Sub-No. 1), should be filed with the Surface Transportation Board either via e-filing on the Board's website or in writing addressed to 395 E Street SW, Washington, DC 20423-0001. In addition, a copy of each pleading must be served on GRTA's representative, Daniel Elliott, GKG Law, P.C., 1055 Thomas Jefferson Street NW, Suite 620, Washington, DC 20007. Except as otherwise set forth in 49 CFR part 1152, every document filed with the Board must be served on all parties to this adverse abandonment proceeding. See 49 CFR 1104.12(a).

A Draft Environmental Assessment (EA) (or environmental impact statement (EIS), if necessary) prepared by the Board's Office of Environmental Analysis (OEA) will be served upon all parties of record and upon any agencies or other persons who commented during its preparation. Any other persons who would like to obtain a copy of the Draft EA (or EIS) may contact OEA by phone at the number listed below. Draft EAs normally will be made available within 33 days of the filing of the application, and the deadline for submission of comments on the Draft EA will generally be within 30 days of its service. The comments received will be addressed in a Final EA (or EIS) and the Board's decision. A Supplemental Final EA (or EIS) may be issued where appropriate.

Persons seeking further information concerning abandonment procedures may contact the Board's Office of Public Assistance, Governmental Affairs, and Compliance at (202) 245-0238 or refer to the full abandonment regulations at 49 CFR part 1152. Questions concerning environmental issues may be directed to OEA at (202) 245-0305. If you require an accommodation under the Americans with Disabilities Act, please call (202) 245-0245.

Board decisions and notices are available at www.stb.gov.

Decided: April 29, 2024.
By the Board, Mai T. Dinh, Director, Office of Proceedings.
Jeffrey Herzig,
Clearance Clerk.

[FR Doc. 2024-09578 Filed 5-1-24; 8:45 am]

BILLING CODE 4915-01-P